DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Subcommittee on Populations.

Time and Date: September 18, 2006, 8:30 a.m.-5 p.m. September 19, 2006, 8:30 a.m.-5 p.m.

Place: Renaissance Washington, DC Hotel, 999 Ninth Street, NW., Washington, DC 20001. (202) 898-9000.

Status: Open.

Purpose: The purpose of the meeting is to identify data linkages for statistical purposes within and among Federal government agencies with a view to promoting best practices.

For Further Information Contact: Substantive program information as well as summaries of meetings and a roster of Committee members may be obtained from Joan Turek, Ph.D., Staff to the Subcommittee on Populations, Office of the Assistant Secretary for Planning and Evaluation, Room 434E, 200 Independence Avenue, SW., Washington, DC 20201, telephone (202) 690-5945, e-mail joan.turek@hhs.gov; or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: August 28, 2006.
James Scanlon,
Deputy Assistant Secretary for Science and Data Policy, Office of the Assistant Secretary for Planning and Evaluation.

[FR Doc. 06-7403 Filed 9-1-06; 8:45 am]

BILLING CODE 4151-05-M